DEPARTMENT OF TRANSPORTATION

Federal Highway Administration

Environmental Impact Statement: Henderson and Buncombe Counties, North Carolina

AGENCY: Federal Highway Administration (FHWA), DOT.

ACTION: Notice of intent; correction.

SUMMARY: This document corrects three typographical errors in the FHWA's notice of intent, published on June 7, 2006, at 71 FR 33033. The notice of intent advises the public that an Environmental Impact Statement (EIS) will be prepared for a road widening project in Henderson and Buncombe Counties, North Carolina. There were two typographical errors in the SUMMARY section and the incorrect route number appeared in the SUPPLEMENTARY INFORMATION section. This notice provides the correct information.

FOR FURTHER INFORMATION CONTACT: Clarence W. Coleman, P.E., Operations Engineer, (919) 856-4350, ext. 133, Federal Highway Administration, 310 New Bern Avenue, Suite 410, Raleigh, North Carolina 27601-1418; or Mr. Joseph S. Qubain, Project Manager, (919) 733-7844, ext. 209, North Carolina Department of Transportation (NCDOT), 1548 Mail Service Center, Raleigh, North Carolina 27699-1548.

SUPPLEMENTARY INFORMATION:

Electronic Access

An electronic copy of this document may be downloaded using a modem and suitable communications software from the Federal Register Electronic Bulletin Board Service at (202) 512-1661. Internet users may reach the Federal Register's home page at: http://www.nara.gov/fedreg and the Government Printing Office's database at: http://www.access.gpo.gov/nara.

Background

On June 7, 2006, at 71 FR 33033, the FHWA issued a notice of intent regarding an EIS for a road widening project in North Carolina. The June 7, 2006 notice contained three typographical errors. The purpose of this notice is to correct these errors. First, in the SUMMARY section the word “advice” should be “advise”. Second, in the SUMMARY section, the word “multi-land” should be “multi-lane”. Finally, in the SUPPLEMENTARY INFORMATION section the route, “NC 255” should read “NC 225”.

(Catalog of Federal Domestic Assistance Program Number 20.205, Highway Planning and Construction. The regulations implementing Executive Order 12372 regarding intergovernmental consultation on Federal programs and activities apply to this program.)

Issued on: September 29, 2006.
Clarence W. Coleman,
P.E., Operations Engineer, Raleigh, North Carolina.

[FR Doc. E6-16480 Filed 10-4-06; 8:45 am]

BILLING CODE 4910-22-P